DEPARTMENT OF TRANSPORTATION

Federal Railroad Administration

[Docket No. FRA-2024-0015]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before December 31, 2024.

ADDRESSES: Written comments and recommendations for the proposed ICR should be submitted on regulations.gov to the docket, Docket No. FRA-2024-0015. All comments received will be posted without change to the docket, including any personal information provided. Please refer to the assigned OMB control number (2130-0005) in any correspondence submitted. FRA will summarize comments received in response to this notice in a subsequent notice, made available to the public, and include them in its information collection submission to OMB for approval.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60 days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Hours of Service Regulations.

OMB Control Number: 2130-0005.

Abstract: FRA's hours of service recordkeeping regulations (49 CFR part 228), amended as mandated by the Rail Safety Improvement Act of 2008, include substantive hours of service requirements for train employees (i.e., locomotive engineers and conductors) providing commuter and intercity rail passenger transportation (e.g., maximum on-duty periods, minimum off-duty periods, and other limitations). The regulations also require railroads to evaluate passenger train employee work schedules for risk of employee fatigue and implement measures to mitigate the risk, and to submit to FRA for approval certain schedules and mitigation plans. Finally, the regulations include recordkeeping and reporting provisions requiring railroads to keep hours of service records, and report excess service, for train employees, signal employees, and dispatching service employees on both freight and passenger railroads. FRA uses the information collected to verify that railroads do not require or allow their employees to exceed maximum on-duty periods and ensure that they abide by minimum off-duty periods, and adhere to other limitations, to enhance rail safety and reduce the risk of accidents/incidents caused, or contributed to, by train employee fatigue.

In this 60-day notice, FRA is updating existing form FRA F 6180.3 Hours of Service Report to make the following edits:

• The term “Division” has been changed to “Place of Excess Service (City/State)”.

• Changing “Train or Engine Number (if train or engine crew)” to “Train ID/Job ID”.

• “Type of Service” has been updated by adding the following check boxes: “TEY”; “Signal”; “Dispatch” (respondent will check one box to reflect the type of service being performed at the time of excess service).

• The column, “Conservative Time Off Duty in Preceding 23-Hour Period” has been updated to “Previous Time Off”.

• Changing the term “Cause” to “Brief Description of Excess Service”.

Additionally, FRA made multiple adjustments that increased the previously approved burden hours from 1,283,507 to 1,284,832 hours. This increase, after a thorough review, is the result of the changes described in the following sections summarized below:

• Under § 228.19, Monthly reports of excess service, FRA determined that the annual submissions of form FRA F 6180.3, Exception Report, would increase the burden hours by 567 hours and 567 responses.

• Under §§ 228.103 and 228.107, Construction of employees' sleeping quarters—Petition request, FRA anticipates receiving zero petitions over the next three-year collection period. Accordingly, the burden hours were reduced by 48 hours.

• Under § 228.207, Refresher training, and § 228.411, Training programs on fatigue and related topics, FRA made burden estimate adjustments that more accurately reflect the number of responses and estimated average time required by each section, increasing the burden by 6 hours.

• Under § 228.407(f), Consultation with directly affected employees, FRA has determined that this requirement is not covered under the System Safety Program (SSP). Therefore, an estimated 800 burden hours has been added to this section.

Overall, the adjustments increased the total burden by 1,325 hours.

Type of Request: Extension without change (with changes in estimates) of a currently approved collection.

Affected Public: Businesses (railroads and signal contractors).

Form(s): FRA F 6180.3.

Respondent Universe: 797 railroads, signal contractors and subcontractors.

Frequency of Submission: On occasion.

Reporting Burden
CFR Part 228 section | Respondent universe | Total annual responses | Average time per response (hours) | Total annual burden hours | Total cost equivalent U.S.D
|  | (A) | (B) | (A * B = C) | (D = C * wage rate) ¹
SUBPART B—Records and Reporting
228.9—Railroad records; general | The burden for this requirement is accounted for under § 228.11.
228.11—Hours of duty records (electronic and paper) | 797 Railroads signal contractors & subcontractors | 17,448,669 electronic | 3 minutes | 872,433.45 | $77,759,993.40
|  | 918,351 paper | 8 minutes | 122,446.80 | 10,913,683.28
228.17—Dispatchers record of train movements | 63 dispatch offices | 285,000 cumulative train-movement tracking (records) | 1 | 285,000 | 25,402,050.00
228.19(g) through (h)—Monthly reports of excess service—Exception (FRA F 6180.3) | 797 Railroads signal contractors & subcontractors | 2,317 reports | 1 | 2,317 | 206,514.21
SUBPART C—Construction of Railroad-Provided Sleeping Quarters
228.103 and 228.107—Construction of employees' sleeping quarters—Petition request to FRA to allow construction near work areas | FRA anticipates zero petition submissions over the next three-year period.
SUBPART D—Electronic Recordkeeping System and Automated Recordkeeping system
228.207(b)—Training—Initial training—New employees and supervisors | 671 railroads | 250 training records | 2 minutes | 8 | 713.04
—(c) Refresher training—System audits for irregularities by railroads and contractors | 797 railroads/signal contractors & subcontractors | 797 audits and records | 2 | 1,594 | 142,073.22
SUBPART F—Substantive Hours of Service Requirements for Train Employees Engaged in Commuter or Intercity Rail Passenger Transportation
228.407(a)—Analysis of work schedules—Railroads' analysis of one cycle of work schedules of employees engaged in commuter or intercity passenger transportation | 36 railroads | 3 analyses | 2 | 6 | 534.78
—(b) Submissions of certain work schedules and any fatigue mitigation plans, (FMP) and determinations of operational necessity or declarations | 36 railroads | 3 fatigue mitigation plans | 20 | 60 | 5,347.80
—(b) Submissions to FRA for review and approval | 36 railroads | 1 submission | 1 | 1 | 89.13
—(c) Submission of models for FRA approval; validated models already accepted by FRA | FRA anticipates zero submissions under this requirement over the next three-year period.
—(d) Analysis of certain later changes in work schedules—Analyses and mitigation plans—Resubmission to FRA for approval | 36 railroads | 1 analysis or plan | 1 | 1 | 89.13
—(e) Fatigue mitigation plans | The paperwork burden for this requirement has been fulfilled by railroads or included under § 228.407(b)-(d).
—(f) RR Consultation with directly affected employees on: (i) RR Work schedules at risk for fatigue level possibly compromising safety; and (ii) Railroad's selection of fatigue mitigation tools; and (iii) All RR Submissions required by this section seeking FRA approval | 36 railroads | 20 | 40 | 800.00 | 71,304.00
228.409—Requirements for railroad-provided employee sleeping quarters during interim releases and other periods available for rest within a duty tour | The paperwork burden for requirement is included under§ 228.407(f).
228.411—Training programs on fatigue and related topics (e.g., rest, alertness, changes in rest cycles, etc.). | 36 railroads | 36 | 2 | 72 | 6,417.36
—(e) Records of training on fatigue and related topics | 36 railroads | 5,539 | 1 minute | 92 | 8,199.96
228.411(f)—Conditional exclusion—Written declaration to FRA by tourist, scenic, historic, or excursion railroads seeking exclusion | 93 railroads | 1 | 1 | 1 | 89.13
Totals ² | 797 railroads signal contractors & subcontractors | 18,660,988 | N/A | 1,284,832 | 114,517,098

Total Estimated Annual Responses: 18,660,988.

¹ The dollar equivalent cost is derived from the 2023 Surface Transportation Board Full Year Wage A&B data series using employee group 200 (Professional Administrative Staff) hourly wage rate of $50.93. The total burden wage rate (straight time plus 75%) used in the table is $89.13 ($50.93 × 1.75 = $89.13).

² Totals may not add up due to rounding.

Total Estimated Annual Burden: 1,284,832 hours.

Total Estimated Annual Burden Hour Dollar Cost Equivalent: $114,517,098.

FRA informs all interested parties that it may not conduct or sponsor, and a respondent is not required to respond to, a collection of information that does not display a currently valid OMB control number.

Authority: 44 U.S.C. 3501-3520.

Christopher S. Van Nostrand,
Deputy Chief Counsel.

[FR Doc. 2024-25565 Filed 11-1-24; 8:45 am]

BILLING CODE 4910-06-P